OFFICE OF SCIENCE AND TECHNOLOGY POLICY

National Ocean Council; Development of Strategic Action Plans for the National Policy for the Stewardship of the Ocean, Our Coasts, and the Great Lakes

ACTION: Notice of Intent To Prepare Strategic Action Plans for the Nine Priority Objectives for Implementation of the National Policy for the Stewardship of the Ocean, Our Coasts, and the Great Lakes. Request for comments.

SUMMARY: On July 19, 2010, President Obama signed Executive Order 13547 establishing a National Policy for the Stewardship of the Ocean, our Coasts, and the Great Lakes (“National Policy”). That Executive Order adopts the Final Recommendations of the Interagency Ocean Policy Task Force (“Final Recommendations”) and directs Federal agencies to take the appropriate steps to implement them. The Executive Order creates an interagency National Ocean Council (NOC) to strengthen ocean governance and coordination, identifies nine priority actions for the NOC to pursue, and adopts a flexible framework for effective coastal and marine spatial planning to address conservation, economic activity, user conflict, and sustainable use of the ocean, our coasts and the Great Lakes.

Purpose: The NOC is announcing its intent to prepare strategic action plans for the nine priority objectives identified in the Final Recommendations and is requesting input on the development of these strategic action plans. (For general information about the NOC and a copy of Executive Order 13547 and the Final Recommendations, please see: http://www.WhiteHouse.gov/oceans). Public comments will inform the preparation of the strategic action plans. All comments will be collated and posted on the NOC Web site.

Public Comment: The NOC is seeking public input as it develops the strategic action plans for the priority objectives. To be considered during the development of the draft strategic action plans, comments should be submitted by April 29, 2011. Draft strategic action plans will be released for public review in the summer of 2011, allowing additional opportunity for the public to provide comments. Plans are expected to be completed by the end of 2011.

In this public comment period, the NOC is interested in comments that address the opportunities, obstacles, and metrics of progress relevant to each of the priority objectives. Comments should take into account that the strategic action plans should address the key areas identified in the Final Recommendations, including, as appropriate, the importance of integrating local, regional, and national efforts.

The NOC is requesting responses to the following questions for each of the priority objectives:

• What near-term, mid-term, and long-term actions would most effectively help the Nation achieve this policy objective?

• What are some of the major obstacles to achieving this objective; are there opportunities this objective can further, including transformative changes in how we address the stewardship of the oceans, coasts, and Great Lakes?

• What milestones and performance measures would be most useful for measuring progress toward achieving this priority objective?

Comments should be submitted electronically at http://www.WhiteHouse.gov/administration/eop/oceans/comment or can be sent by mail to: National Ocean Council, 722 Jackson Place, NW., Washington, DC 20503.

FOR FURTHER INFORMATION CONTACT: Additional information regarding this request can be found at http://www.WhiteHouse.gov/oceans. Questions about the content of this request may be sent to http://www.WhiteHouse.gov/administration/eop/oceans/contact or by mail (please allow additional time for processing) to the address above.

SUPPLEMENTARY INFORMATION: On July 19, 2010, President Obama signed Executive Order 13547 establishing a National Policy for the Stewardship of the Ocean, our Coasts, and the Great Lakes (“National Policy”). That Executive Order adopts the Final Recommendations of the Interagency Ocean Policy Task Force and directs Federal agencies to take the appropriate steps to implement them. The Executive Order creates an interagency National Ocean Council (NOC) to strengthen ocean governance and coordination, identifies nine priority actions for the NOC to pursue, and adopts a flexible framework for effective coastal and marine spatial planning to address conservation, economic activity, user conflict, and sustainable use of the ocean, our coasts, and the Great Lakes.

The National Policy provides a comprehensive approach, based on science and technology, to uphold our stewardship responsibilities and ensure accountability for our actions to present and future generations. The Obama Administration intends, through the National Policy, to provide a model of balanced, productive, efficient, sustainable, and informed ocean, coastal, and Great Lakes use, management, and conservation. The Final Recommendations provide an implementation strategy that describes a clear set of priority objectives that our Nation should pursue to further the National Policy.

The nine priority objectives seek to address some of the most pressing challenges facing the ocean, our coasts, and the Great Lakes. The nine priority objectives are identified below. Additional information about each priority may be found at http://www.WhiteHouse.gov/oceans.

Objective 1: Ecosystem-Based Management: Adopt ecosystem-based management as a foundational principle for the comprehensive management of the ocean, our coasts, and the Great Lakes;

Objective 2: Coastal and Marine Spatial Planning: Implement comprehensive, integrated, ecosystem-based coastal and marine spatial planning and management in the United States;

Objective 3: Inform Decisions and Improve Understanding: Increase knowledge to continually inform and improve management and policy decisions and the capacity to respond to change and challenges. Better educate the public through formal and informal programs about the ocean, our coasts, and the Great Lakes;

Objective 4: Coordinate and Support: Better coordinate and support Federal, State, Tribal, local, and regional management of the ocean, our coasts, and the Great Lakes. Improve coordination and integration across the Federal Government and, as appropriate, engage with the international community;

Objective 5: Resiliency and Adaptation to Climate Change and Ocean Acidification: Strengthen resiliency of coastal communities and marine and Great Lakes environments and their abilities to adapt to climate change impacts and ocean acidification;

Objective 6: Regional Ecosystem Protection and Restoration: Establish and implement an integrated ecosystem protection and restoration strategy that is science-based and aligns conservation and restoration goals at the Federal, State, Tribal, local, and regional levels;

Objective 7: Water Quality and Sustainable Practices on Land: Enhance water quality in the ocean, along our coasts, and in the Great Lakes by promoting and implementing sustainable practices on land;

Objective 8: Changing Conditions in the Arctic: Address environmental stewardship needs in the Arctic Ocean and adjacent coastal areas in the face of climate-induced and other environmental changes; and

Objective 9: Ocean, Coastal, and Great Lakes Observations, Mapping, and Infrastructure: Strengthen and integrate Federal and non-Federal ocean observing systems, sensors, data collection platforms, data management, and mapping capabilities into a national system and integrate that system into international observation efforts.

These priority objectives are meant to provide a bridge between the National Policy and action on the ground and in the water, but they do not prescribe specific actions or responsibilities. The NOC is responsible for developing strategic action plans to achieve the priority objectives. As envisioned, the plans will:

• Identify specific and measurable near-term, mid-term, and long-term actions, with appropriate milestones, performance measures, and outcomes to fulfill each objective;

• Consider smaller-scale, incremental, and opportunistic efforts that could build upon existing activities, as well as more complex, larger-scale actions that have the potential to be truly transformative;

• Identify key lead and participating agencies;

• Identify gaps and needs in science and technology; and

• Identify potential resource requirements and efficiencies; and steps for integrating or coordinating current and out-year budgets.

The plans will be adaptive to allow for modification and addition of new actions based on new information or changing conditions. Their effective implementation will also require clear and easily understood requirements and regulations, where appropriate, that include enforcement as a critical component. Implementation of the National Policy for the stewardship of the ocean, our coasts, and the Great Lakes will recognize that different legal regimes, with their associated freedoms, rights, and duties, apply in different maritime zones. The plans will be implemented in a manner consistent with applicable international conventions and agreements and with customary international law as reflected in the Law of the Sea Convention. The plans and their implementation will be assessed and reviewed annually by the NOC and modified as needed based on the success or failure of the agreed upon actions.

The NOC is committed to transparency in developing strategic action plans and implementing the National Policy. As the NOC develops and revises the plans, it will ensure substantial opportunity for public participation. The NOC will also actively engage interested parties, including, as appropriate, State, Tribal, and local authorities, regional governance structures, academic institutions, nongovernmental organizations, recreational interests, and private enterprise.

Ted Wackler,
Deputy Chief of Staff, OSTP.

[FR Doc. 2011-1316 Filed 1-21-11; 8:45 am]

BILLING CODE P